DEPARTMENT OF ENERGY

Federal Energy Regulatory Commission

[Docket No. EG02-4-000, et al.]

GNE, LLC, et al.; Electric Rate and Corporate Regulation Filings

December 3, 2001.

Take notice that the following filings have been made with the Commission:

1. GNE, LLC

[Docket No. EG02-4-000]

Take notice that on November 30, 2001, GNE, LLC located at 1 Katahdin Avenue, Millinocket, Maine, 04462-1398, tendered for filing with the Federal Energy Regulatory Commission (Commission) an amendment to application for exempt wholesale generator status pursuant to Part 365 of the Commission's regulations.

GNE, LLC is a Delaware limited liability company that will own and operate four hydroelectric plants located at or near Millinocket, Maine, with a total nameplate capacity of approximately 130 megawatts and certain undivided joint ownership interest in several transmission interconnection components that will be part of the eligible facility. GNE, LLC will be engaged directly and exclusively in the business of owning and operating all or part of one or more eligible facilities and selling electric energy at wholesale.

Comment date: December 24, 2001, in accordance with Standard Paragraph E at the end of this notice. The Commission will limit its consideration of comments to those that concern the adequacy or accuracy of the application.

2. Portland General Electric Company

[Docket No. ES01-33-001]

Take notice that on November 28, 2001, Portland General Electric Company submitted an amendment to its original application pursuant to section 204 of the Federal Power Act. The amendment seeks authorization to issue short-term debt securities in an amount not to exceed $550 million.

Comment date: December 17, 2001, in accordance with Standard Paragraph E at the end of this notice.

3. Northeast Utilities Service Company, Select Energy, Inc., Northeast Generation Company

[Docket No. ER96-496-010, Docket No. ER99-14-007, and Docket No. ER99-4463-001]

Take notice that on November 28, 2001, Northeast Utilities Service Company (NUSCO), on behalf of The Connecticut Light and Power Company, Western Massachusetts Electric Company, Holyoke Water Power Company, Holyoke Power and Electric Company, and Public Service of New Hampshire (the NU Operating Companies), and Select Energy, Inc. (Select), and Northeast Generation Company (NGC) (collectively, Applicants) jointly filed with the Federal Energy Regulatory Commission (Commission), an updated market power analysis. This filing serves as the triennial updated market power analysis in Docket Nos. ER96-496-000 for the NU Operating Companies; ER99-14-000 for Select; and ER99-4463-000 for NGC. In addition, Applicants request the Commission to synchronize their future triennial market power updates.

Comment date: December 19, 2001, in accordance with Standard Paragraph E at the end of this notice.

4. Phoenix Wind Power LLC

[Docket No. ER02-417-000]

Take notice that on November 28, 2001, Phoenix Wind Power LLC filed with the Federal Energy Regulatory Commission (Commission) a Notice of Succession informing the Commission that the name of PPM One LLC had been changed to Phoenix Wind Power LLC. Phoenix Wind Power LLC included with the Notice of Succession its First Revised Rate Schedule No. 1, effective November 27, 2001, which was revised to reflect the name change and to satisfy the Commission's regulations in 18 CFR 35.9.

Comment date: December 19, 2001, in accordance with Standard Paragraph E at the end of this notice.

5. Klamath Generation LLC

[Docket No. ER02-418-000]

Take notice that on November 28, 2001, Klamath Generation LLC filed with the Federal Energy Regulatory Commission (Commission) a Notice of Succession informing the Commission that the name of PPM Four LLC had been changed to Klamath Generation LLC. Klamath Generation LLC included with the Notice of Succession its First Revised Rate Schedule No. 1, effective November 27, 2001, which was revised to reflect the name change and to satisfy the Commission's regulations in 18 CFR 35.9.

Comment date: December 19, 2001, in accordance with Standard Paragraph E at the end of this notice.

6. Southern Company Services, Inc.

[Docket No. ER02-419-000]

Take notice that on November 28, 2001, Southern Company Services, Inc. (SCS), acting on behalf of Alabama Power Company, Georgia Power Company, Gulf Power Company, Mississippi Power Company, and Savannah Electric and Power Company (collectively referred to as Southern Companies), filed eleven (11) service agreements for point-to-point transmission service under the Open Access Transmission Tariff of Southern Companies (FERC Electric Tariff, Fourth Revised Volume No. 5). Specifically, this filing concerns seven (7) agreements for short-term firm point-to-point transmission service executed between SCS, as agent for Southern Companies, and: (i) TXU Energy Trading Company; (ii) Enron Power Marketing, Inc.; (iii) Cinergy Services, Inc.; (iv) Cargill-Alliant, LLC; (v) Avista Energy, Inc.; (vi) Sempra Energy Trading Corporation; and (vii) NRG Power Marketing, Inc. This filing also concerns four (4) agreements for non-firm point-to-point transmission service executed between SCS, as agent for Southern Companies, and: (i) TXU Energy Trading Company; (ii) Cargill-Alliant, LLC; (iii) Sempra Energy Trading Corporation; and (iv) NRG Power Marketing, Inc.

Comment date: December 19, 2001, in accordance with Standard Paragraph E at the end of this notice.

7. Tucson Electric Power Company

[Docket No. ER02-420-000]

Take notice that on November 28, 2001, Tucson Electric Power Company tendered for filing one (1) Umbrella Service Agreement (for short-term firm service) and one (1) Service Agreement (for non-firm service) pursuant to Part II of Tucson's Open Access Transmission Tariff, which was filed in Docket No. ER01-208-000.

The details of the service agreements are as follows:

Umbrella Agreement for Short-Term Firm Point-to-Point Transmission Service dated as of July 24, 2001 by and between Tucson Electric Power Company PPL EnergyPlus, LLC-FERC Electric Tariff Vol. No. 2, Service Agreement No. 182. No service has commenced at this time.

Form of Service Agreement for Non-Firm Point-to-Point Transmission Service dated as of July 24, 2001 by and between Tucson Electric Power Company and PPL EnergyPlus, LLC—FERC Electric Tariff Vol. No. 2, Service Agreement No. 183. No service has commenced at this time.

Comment date: December 19, 2001, in accordance with Standard Paragraph E at the end of this notice.

8. Southwest Power Pool, Inc.

[Docket No. ER02-421-000]

Take notice that on November 28, 2001, Southwest Power Pool, Inc. (SPP) tendered for filing with the Federal Energy Regulatory Commission (Commission), a Notice of Cancellation for SPP Service Agreement Nos. 518 through 521, between SPP and McCurtain Energy Associates, LLC, and SPP Service Agreement Nos. 522 through 524, between SPP and Sequoyah Energy Associates, LLC (collectively, Transmission Customers).

SPP requests an effective date of November 6, 2001 for this cancellation.

Copies of this filing have been served upon the Transmission Customers.

Comment date: December 19, 2001, in accordance with Standard Paragraph E at the end of this notice.

9. West Texas Utilities Company

[Docket No. ER02-422-000]

Take notice that on November 28, 2001, West Texas Utilities Company (WTU) submitted for filing revised tariff sheets under WTU's Wholesale Power Choice Tariff (WPC Tariff) to modify billing procedures.

WTU seeks an effective date of August 1, 2001.

WTU states that a copy of this filing has been served on all customers taking service under the WPC Tariff and the Public Utilities Commission of Texas.

Comment date: December 19, 2001, in accordance with Standard Paragraph E at the end of this notice.

10. Commonwealth Edison Company

[Docket No. ER02-423-000]

Take notice that on November 28, 2001 Commonwealth Edison Company (ComEd) submitted for filing a Form of Service Agreement for Firm Point-to-Point Transmission Service (Service Agreement) between ComEd and Exelon Generation Company, LLC (Exelon) under the terms of ComEd's Open Access Transmission Tariff (OATT).

ComEd requests an effective date of November 21, 2001.

Copies of this filing were served on Exelon.

Comment date: December 19, 2001, in accordance with Standard Paragraph E at the end of this notice.

11. Michigan Electric Transmission Company and Consumers Energy Company

[Docket No. ER02-424-000]

Take notice that on November 28, 2001, Consumers Energy Company (Consumers) and Michigan Electric Transmission Company (Michigan Transco) tendered for filing a Notice of Succession and several documents related to the transfer of specified Rate Schedules from Consumers to Michigan Transco. (The filing is intended to supplement a prior filing in Docket No. ER01-1683-000).

The changes therein noted are to become effective April 1, 2001.

A full copy of the filing was served upon the Michigan Public Service Commission, and the Customers served under the affected Rate Schedules.

Comment date: December 19, 2001, in accordance with Standard Paragraph E at the end of this notice.

12. Cleco Power LLC

[Docket No. ER02-425-000]

Take notice that on November 28, 2001, Cleco Power LLC (Cleco) filed a Revised Electric System Interconnection Agreement with Southwestern Electric Power Company that provides for a new delivery point for SWEPCO deliveries at Grand Bayou and the terms and conditions for the installation of new meter and communications equipment associated with that delivery point. The revised agreement is designated as Cleco Power LLC First Revised Rate Schedule FERC No. 17.

Comment date: December 19, 2001, in accordance with Standard Paragraph E at the end of this notice.

13. American Transmission Company LLC

[Docket No. ER02-426-000]

Take notice that on November 28, 2001, American Transmission Company LLC (ATCLLC) tendered for filing an executed Distribution-Transmission Interconnection Agreement between ATCLLC and Cloverland Electric Cooperative.

ATCLLC requests an effective date of June 29, 2001.

Comment date: December 19, 2001, in accordance with Standard Paragraph E at the end of this notice.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30399 Filed 12-7-01; 8:45 am]

BILLING CODE 6717-01-P